DEPARTMENT OF TRANSPORTATION

Pipeline and Hazardous Materials Safety Administration

[Docket No. PHMSA-2021-0115]

Pipeline Safety: Information Collection Activities, Gas and Hazardous Liquid Pipeline Safety Program Performance Progress Report

AGENCY: Pipeline and Hazardous Materials Safety Administration (PHMSA), DOT.

ACTION: Notice and request for comments.

SUMMARY: In accordance with the Paperwork Reduction Act of 1995, PHMSA invites comments from affected agencies and members of the public on the information collection detailed below. PHMSA is preparing to request Office of Management and Budget (OMB) approval for the renewal of the information collection covering the Gas Pipeline Safety Program Performance Progress Report and Hazardous Liquid Pipeline Safety Program Performance Progress Report currently approved under OMB control number 2137-0584.

DATES: Interested persons are invited to submit comments on or before February 14, 2022.

ADDRESSES: Comments may be submitted in the following ways:

E-Gov Website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., ET, Monday through Friday, except federal holidays.

Instructions: Identify the docket number, PHMSA-2021-0115 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of DOT, West Building, 1200 New Jersey Avenue SE, Washington, DC, between 9:00 a.m. and 5:00 p.m., ET, Monday through Friday, except federal holidays. If you wish to receive confirmation of receipt of your written comments, please include a self-addressed, stamped postcard with the following statement: “Comments on: PHMSA-2021-0115” The Docket Clerk will date stamp the postcard prior to returning it to you via the U.S. mail. Please note that due to delays in the delivery of U.S. mail to federal offices in Washington, DC, we recommend that persons consider an alternative method (internet, fax, or professional delivery service) of submitting comments to the docket and ensuring their timely receipt at DOT.

Privacy Act Statement: DOT may solicit comments from the public regarding certain general notices. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: Angela Hill by telephone at 202-366-1246, by email at Angela.Hill@dot.gov, or by mail at DOT, PHMSA, 1200 New Jersey Avenue SE, PHP-30, Washington, DC 20590-0001.

SUPPLEMENTARY INFORMATION: Section 1320.8(d), Title 5, Code of Federal Regulations, requires PHMSA to provide interested members of the public and affected agencies an opportunity to comment on information collection and recordkeeping requests. This notice identifies the information collection request that PHMSA will submit to the OMB for approval.

The following information is provided below for the impacted information collection: (1) Title of the information collection; (2) OMB control number; (3) Current expiration date; (4) Type of request; (5) Abstract of the information collection activity; (6) Description of affected public; (7) Estimate of total annual reporting and recordkeeping burden; and (8) Frequency of collection.

PHMSA requests comments on the following information collection:

Title: Gas Pipeline Safety Program Performance Progress Report and Hazardous Liquid Pipeline Safety Program Performance Progress Report.

OMB Control Number: 2137-0584.

Current Expiration Date: 03/31/2022.

Abstract: Section 60105 of 49 U.S.C. sets forth specific requirements a state must meet to qualify for certification status to assume regulatory and enforcement responsibility for intrastate pipelines. A state must submit an annual performance progress report to validate responsibility for regulating intrastate pipelines, and states who receive federal grant funding must also show the state has adequate damage prevention plans and associated records in place.

PHMSA uses this information to evaluate a state's eligibility for federal grants and to enforce regulatory compliance. This information collection request requires a participating state to annually submit a Gas Pipeline Safety Program Performance Progress Reports and/or a Hazardous Liquid Pipeline Safety Program Performance Progress Report to PHMSA's Office of Pipeline Safety showing compliance with the terms of the certification and to maintain records detailing a damage prevention plan. The purpose of the collection is to exercise oversight of the grant program and to ensure that states are compliant with federal pipeline safety regulations.

PHMSA intends to request renewal of this information collection and to make minor editorial changes to the instructions and definitions sections of the Gas Pipeline Safety Program Performance Progress Report and the Hazardous Liquid Pipeline Safety Program Performance Progress Report in order to update and clarify how participating state agencies should report the required information.

Affected Public: State and local governments.

Annual Reporting and Recordkeeping Burden:

Total Annual Responses: 117.

Total Annual Burden Hours: 4,473.

Frequency of Collection: Annually.

Comments are invited on:

(a) The need for the proposed collection of information, including whether the information will have practical utility in helping the agency to achieve its pipeline safety goals;

(b) The accuracy of the agency's estimate of the burden of the proposed collection of information;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on December 9, 2021, under authority delegated in 49 CFR 1.97.
John A. Gale,
Director, Standards and Rulemaking Division.

[FR Doc. 2021-27069 Filed 12-14-21; 8:45 am]

BILLING CODE 4910-60-P